GENERAL SERVICES ADMINISTRATION

[Notice-R03-2012-01; Docket No. 2012-0002; Sequence 23]

Notice of Public Meeting for the Draft Environmental Impact Statement for the Foreign Affairs Security Training Center in Nottoway County, VA

AGENCY: United States General Services Administration.

ACTION: Notice.

SUMMARY: Pursuant to the Council on Environmental Quality (CEQ) regulations, implementing the procedural provisions of the National Environmental Policy Act (NEPA), the U.S. General Services Administration (GSA) has prepared and filed a Draft Environmental Impact Statement (EIS) with the U.S. Environmental Protection Agency (EPA). GSA is the lead agency; cooperating agencies are U.S. Department of State (DOS), U.S. Army Corps of Engineers, EPA, and National Guard Bureau. The Draft EIS was prepared to evaluate the environmental impacts of site acquisition and development of the DOS, Bureau of Diplomatic Security, Foreign Affairs Security Training Center (FASTC) at the Virginia Army National Guard's Maneuver Training Center at Fort Pickett and Nottoway County's Pickett Park in Nottoway County, Virginia. The project would be developed on land currently operated or owned by the Virginia Army National Guard and Nottoway County. The purpose of the proposed FASTC in Nottoway County is to consolidate existing dispersed training functions into a single suitable location to improve training efficiency and enhance training operations. More detailed information on the FASTC program is available at http://www.state.gov/recovery/fastc.

DATES: Comment date: The public may submit comments on the Draft EIS during a 45-day public review and comment period beginning October 26, 2012 with publication of this notice and ending on December 10, 2012. Instructions for submitting comments may be found under the heading “Supplemental Information” in this notice.

Public Meeting: A public information meeting is scheduled for November 7, 2012, between 6:30 p.m. and 8:30 p.m. at the Blackstone Conference and Retreat Center located at 707 Fourth Street, Blackstone VA, 23824. Informational posters will be on display in the Dining Hall, and representatives from GSA and DOS will be available to explain the proposed project, answer questions, and receive comments from the public. An informational presentation followed by an informal question and answer session will take place in the Auditorium from 7:00 p.m. to 7:45 p.m. Comments cards and a stenographer will be available for the public to provide formal written comments.

ADDRESSES: Send written comments by mail to: Ms. Abigail Low, GSA Project Manager, 20 N 8th Street, Philadelphia, PA 19107.

FOR FURTHER INFORMATION CONTACT: Ms. Abigail Low, GSA Project Manager, email: FASTC.info@gsa.gov or telephone: (215) 446-4815.

SUPPLEMENTARY INFORMATION: The purpose of the proposed FASTC at Fort Pickett is to consolidate existing dispersed training functions into a single suitable location to improve training efficiency and enhance training operations. The proposed FASTC is needed to establish a facility from which DOS Bureau of Diplomatic Security may conduct a wide array of law enforcement and security training to meet the increased demand for well-trained personnel. A Notice of Intent to prepare an EIS was published in the Federal Register on October 4, 2011 (Volume 76, No. 192). A 30-day public scoping comment period was held from October 4, 2011 to November 3, 2011. Two build alternatives and a no action alternative have been evaluated in the Draft EIS. The Preferred Alternative is Alternative 2; construction of the FASTC program, including driving tracks, firing ranges, mock urban environments, explosives ranges, classrooms, simulation labs, a fitness center, administrative offices, dormitories, and a dining hall, on four adjacent parcels at Fort Pickett and Pickett Park in Nottoway County, VA.The Draft EIS has been distributed to various federal, state, and local agencies. The Draft EIS is available for review on the project Web site http://www.state.gov/recovery/fastc. A printed copy of the Draft EIS is available for viewing at the following libraries:

• Nottoway County Library—Louis Spencer Epes Memorial Library, 415 South Main St, Blackstone, VA

• Amelia County—James L. Hamner Public Library, 16351 Dunn Street, Amelia, VA

• Brunswick County—Brunswick County Library, 133 W. Hicks Street, Lawrenceville, VA

• Dinwiddie County—Dinwiddie Library, 14103 Boydton Plank Road, Dinwiddie, VA

• Lunenburg County—Ripberger Library, 117 South Broad St., Kenbridge, VA

• Prince Edward County—Farmville—Prince Edward Community Library, 1303 West 3rd Street, Farmville, VA

• Chesterfield County—Central Library, 9501 Lori Road, Chesterfield, VA

• Mecklenburg County—Southside Regional Library, 316 Washington Street, Boydton, VA

Federal, state, and local agencies, and other interested parties, are invited and encouraged to be present or represented at the public meeting on November 7, 2012. All formal comments will become part of the public record and substantive comments will be responded to in the Final EIS. Comments on the Draft EIS can be submitted three ways: (1) Submit comments via the FASTC email address: FASTC.info@gsa.gov, (2) provide written or oral (recorded by a stenographer) comments during the public meeting, or (3) mail a comment form or letter to: Ms. Abigail Low, GSA Project Manager, 20 N 8th Street, Philadelphia, PA 19107. Written comments postmarked by December 10, 2012 will become part of the official public record.

Dated: October 16, 2012.
Leonard Purzycki,
Director of FM&SP, GSA Mid Atlantic Region.

[FR Doc. 2012-26199 Filed 10-25-12; 8:45 am]

BILLING CODE 6820-AE-P